COMMITTEE FOR PURCHASE FROM PEOPLE WHO ARE BLIND OR SEVERELY DISABLED

Procurement List; Proposed Addition

AGENCY: Committee for Purchase From People Who Are Blind or Severely Disabled.

ACTION: Proposed addition to Procurement List.

SUMMARY: The Committee is proposing to add to the Procurement List a commodity to be furnished by nonprofit agencies employing persons who are blind or have other severe disabilities.

COMMENTS MUST BE RECEIVED ON OR BEFORE: November 2, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions.

If the Committee approves the proposed addition, the entities of the Federal Government identified in this notice for each commodity will be required to procure the commodity listed below from nonprofit agencies employing persons who are blind or have other severe disabilities.

I certify that the following action will not have a significant impact on a substantial number of small entities. The major factors considered for this certification were:

1. The action will not result in any additional reporting, recordkeeping or other compliance requirements for small entities other than the small organizations that will furnish the commodity to the Government.

2. The action will result in authorizing small entities to furnish the commodity to the Government.

3. There are no known regulatory alternatives which would accomplish the objectives of the Javits-Wagner-O'Day Act (41 U.S.C. 46-48c) in connection with the commodity proposed for addition to the Procurement List. Comments on this certification are invited. Commenters should identify the statement(s) underlying the certification on which they are providing additional information.

The following commodity is proposed for addition to Procurement List for production by the nonprofit agencies listed:

Commodity

Cap, Utility, USMC 8405-01-485-4299

8405-01-485-4304

8405-01-485-4305

8405-01-485-4307

8405-01-485-4308

8405-01-485-4309

8405-01-485-4313

8405-01-485-4314

8405-01-485-4315

8405-01-485-4316

8405-01-485-4317

8405-01-485-4318

8405-00-NSH-1001

8405-00-NSH-1002

8405-00-NSH-1003

8405-00-NSH-1004

8405-00-NSH-1005

8405-00-NSH-1006

8405-00-NSH-1007

8405-00-NSH-1008

8405-00-NSH-1009

8405-00-NSH-1010

8405-00-NSH-1011

8405-00-NSH-1012

NPA: Southeastern Kentucky Rehabilitation Industries, Inc. Corbin, Kentucky

Government Agency: U.S. Marine Corps

Sheryl D. Kennerly,
Director, Information Management.

[FR Doc. 01-24723 Filed 10-2-01; 8:45 am]

BILLING CODE 6353-01-P